DEPARTMENT OF THE INTERIOR

Bureau of Land Management

[NV-930-1430-EQ; N-73883]

Notice of Realty Action: Commercial Lease of Public Lands

AGENCY: Bureau of Land Management.

ACTION: Commercial lease.

SUMMARY: The Notice of Realty Action involves a long term lease of public lands administered by the Bureau of Land management in Clark County, Nevada. The lease is intended to authorize Buffalo Westcliff Ltd. Partnership (N-73883) to utilize the land for a public parking lot, in conjunction with their private land, and subject to a right-of-way granted to Nevada Power Company (N-51943).

The land has been examined and found suitable for Commercial Leasing under (43 U.S.C. 2920). The legal description of the site is as follows:

Mount Diablo Meridian, Nevada

T. 20 S., R. 60 E.,

Sec.28,S½NE¼SE¼.

Containing .69 acres, more or less, located at Buffalo and the south side of Summerlin Parkway.

The site will be leased on a non-competitive basis. More detailed information is available for review at the Las Vegas Field Office, Bureau of land Management, 4765 Vegas Drive, Las Vegas, Nevada 89108. Contact Naomi Hatch at 702/647-5084.

Reimbursement of costs shall be in accordance with the provisions of 43 CFR 2920.6.

For a period of 45 days from the date of publication of this notice in the Federal Register, interested parties may submit comments to the Assistant Field Manager, Division of Lands, Las Vegas Field Office, 4765 Vegas Drive, Las Vegas, Nevada 89108. Any adverse comments will be evaluated by the Assistant Field Manager, Division of Lands who may vacate or modify this Realty Action and issue a final determination. In the absence of any action by the Assistant Field Manager, Division of Lands, this Realty Action will become the final determination of the Bureau.

Dated: November 22, 2000.
Cheryl A. Ruffridge,
Acting Assistant Field Manager, Division of Lands, Las Vegas, Nevada.

[FR Doc. 00-31370 Filed 12-8-00; 8:45 am]

BILLING CODE 4310-HC-P